DEPARTMENT OF ENERGY

Federal Energy Regulatory Commission

[Docket No. CP19-512-000]

Texas Eastern Transmission, LP; Notice of Application

Take notice that on September 26, 2019, Texas Eastern Transmission, LP (Texas Eastern), 5400 Westheimer Court, Houston, Texas 77056, filed in Docket No. CP19-512-000 an application pursuant to section 7(c) of the Natural Gas Act (NGA) requesting authorization to construct new (1) 30,000 ISO-rated horsepower (HP) compressor station (CS) in Calcasieu Parish, Louisiana; (2) 0.2 miles of 20-inch-diameter interconnecting piping in Cameron Parish, Louisiana; (3) three metering and regulating (M&R) stations and other appurtenances in Cameron, Beauregard, and Jefferson Davis Parishes, Louisiana (Cameron Expansion Project). The project will generate 750,000 dekatherms per day of additional firm transportation capacity to a new interconnect with TransCameron Pipeline, LLC (TransCameron). Texas Eastern is also seeking approval to establish and charge initial incremental recourse reservation and usage rates and an incremental fuel percentage for firm service, all as more fully set forth in the application which is on file with the Commission and open to public inspection.

The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

Any questions concerning this application may be directed to Lisa A. Connolly, Director, Rates and Certificates, Texas Eastern Transmission, LP, P.O. Box 1642, Houston, Texas 77251, by phone (713) 627-4102, fax (713) 627-5947, or email lisa.connolly@enbridge.com.

Specifically, Texas Eastern proposes to construct and operate (1) a new CS in Calcasieu Parish, comprised of one 30,000 ISO-rated HP, natural gas-driven turbine compressor unit and related appurtenances; (2) a new delivery M&R station and related facilities, including 0.2 miles of 20-inch-diameter interconnecting piping, at a new interconnect with TransCameron's pipeline system in Cameron Parish; (3) a new receipt M&R station and related facilities at a new interconnect with Momentum Midstream, LLC in Beauregard Parish; (4) a new bi-directional M&R station and related facilities at a new interconnect with Trunkline Gas Company, LLC in Jefferson Davis Parish; (5) installation of equipment, including a filter separator and regulator at the Gillis CS in Beauregard Parish; and (6) other related auxiliary facilities and appurtenances. The cost of the proposed project is estimated at $149,000,000.

Pursuant to section 157.9 of the Commission's rules (18 CFR 157.9), within 90 days of this Notice, the Commission staff will either: Complete its environmental assessment (EA) and place it into the Commission's public record (eLibrary) for this proceeding or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit five copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

As of the February 27, 2018 date of the Commission's order in Docket No. CP16-4-001, the Commission will apply its revised practice concerning out-of-time motions to intervene in any new NGA section 3 or section 7 proceeding.¹ Persons desiring to become a party to a certificate proceeding are to intervene in a timely manner. If seeking to intervene out-of-time, the movant is required to show good cause why the time limitation should be waived, and should provide justification by reference to factors set forth in Rule 214(d)(1) of the Commission's Rules and Regulations.²

¹ Tennessee Gas Pipeline Company, L.L.C., 162 FERC 61,167 at 50 (2018).

² 18 CFR 385.214(d)(1).

The Commission strongly encourages electronic filings of comments, protests and interventions in lieu of paper using the eFiling link at http://www.ferc.gov. Persons unable to file electronically should submit original and five copies of the protest or intervention to the Federal Energy Regulatory Commission, 888 First Street NE, Washington, DC 20426.

Comment Date: 5:00 p.m. Eastern Time on October 30, 2019.

Dated: October 9, 2019.
Nathaniel J. Davis, Sr.,
Deputy Secretary.

[FR Doc. 2019-22522 Filed 10-15-19; 8:45 am]

BILLING CODE 6717-01-P